DEPARTMENT OF DEFENSE

Office of the Secretary

Defense Science Board; Notice of Federal Advisory Committee Meeting

AGENCY: Under Secretary of Defense for Research and Engineering, Defense Science Board, Department of Defense.

ACTION: Notice of Federal Advisory Committee meeting.

SUMMARY: The Department of Defense (DoD) is publishing this notice to announce that the following Federal Advisory Committee meeting of the Defense Science Board (DSB) will take place.

DATES: June 27, 2018 from 8:00 a.m. to 5:00 p.m.-June 28, 2018 from 8:00 a.m. to 3:00 p.m.

ADDRESSES: The Executive Conference Center, 4075 Wilson Boulevard, 3rd Floor, Arlington, VA 22203.

FOR FURTHER INFORMATION CONTACT: Defense Science Board Designated Federal Officer (DFO) Mr. Edward C. Gliot, (703) 571-0079 (Voice), (703) 697-1860 (Facsimile), edward.c.gliot.civ@mail.mil (Email). Mailing address is Defense Science Board, 3140 Defense Pentagon, Room 3B888A, Washington, DC 20301-3140. Website: http://www.acq.osd.mil/dsb/. The most up-to-date changes to the meeting agenda can be found on the website.

SUPPLEMENTARY INFORMATION: This meeting is being held under the provisions of the Federal Advisory Committee Act (FACA) (5 U.S.C., Appendix), the Government in the Sunshine Act (5 U.S.C. 552b), and 41 CFR 102-3.140 and 102-3.150.

Purpose of the Meeting: The mission of the DSB is to provide independent advice and technical enterprise. The objective of the meeting is to obtain, review, and evaluate classified information related to the DSB's mission. The meeting will focus on DoD dependence on the U.S. electric power grid, homeland air defense, maritime situational awareness, threats and promise of biotechnology, countering autonomous systems, technical approaches to counter-intelligence, resilient positioning, navigation and timing, various undersea issues, gray zone conflict, resilience of the defense industrial base, and logistics.

Agenda: The 2018 Summer Study meeting will begin on Wednesday, June 27, 2018 at 8:00 a.m. with opening remarks from Mr. Edward Gliot, DSB Executive Director, Dr. Craig Fields, DSB Chairman and Dr. Eric Evans, Vice Chairman. Following opening remarks, Defense Science Board members will hold classified small group discussions covering DoD dependence on the U.S. electric power grid, homeland air defense, maritime situational awareness, threats and promise of biotechnology, countering autonomous systems, technical approaches to counter-intelligence, resilient positioning, navigation and timing, various undersea issues, gray zone conflict, resilience of the defense industrial base, and logistics. After break, DSB members will hold a plenary session of classified discussion covering DoD dependence on the U.S. electric power grid, homeland air defense, maritime situational awareness, threats and promise of biotechnology, countering autonomous systems, technical approaches to counter-intelligence, resilient positioning, navigation and timing, various undersea issues, gray zone conflict, resilience of the defense industrial base, and logistic. The meeting will adjourn at 5:00 p.m. On the second day of the meeting, Thursday, June 28, 2018, the day will begin at 8:00 a.m. with a classified plenary session covering DoD dependence on the U.S. electric power grid, homeland air defense, maritime situational awareness, threats and promise of biotechnology, countering autonomous systems, technical approaches to counter-intelligence, resilient positioning, navigation and timing, various undersea issues, gray zone conflict, resilience of the defense industrial base, and logistic. After break, the classified plenary discussion will continue. The meeting will adjourn at 3:00 p.m.

Meeting Accessibility: In accordance with section 10(d) of the FACA and title 41 CFR 102-3.155, the DoD has determined that the DSB meeting will be closed to the public. Specifically, the Under Secretary of Defense for Research and Engineering, in consultation with the DoD Office of General Counsel, has determined in writing that the meeting will be closed to the public because it will consider matters covered by title 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense for Research and Engineering.

Written Statements: In accordance with section 10(a)(3) of the FACA and title 41 CFR 102-3.105(j) and 102-3.140, interested persons may submit a written statement for consideration by the DSB at any time regarding its mission or in response to the stated agenda of a planned meeting. Individuals submitting a written statement must submit their statement to the DSB DFO provided above at any point; however, if a written statement is not received at least three calendar days prior to the meeting, which is the subject of this notice, then it may not be provided to or considered by the DSB until a later date.

Dated: June 27, 2018.
Shelly E. Finke,
Alternate OSD Federal Register, Liaison Officer, Department of Defense.

[FR Doc. 2018-14194 Filed 6-29-18; 8:45 am]

BILLING CODE 5001-06-P